DEPARTMENT OF STATE

[Public Notice 4346]

30-Day Notice of Proposed Information Collections

Form DS-2003, Notification of Appointment of Foreign Diplomatic and Career Consular Officer (OMB Collection Number 1405-0062); Form DS-2004, Notification of Appointment of Foreign Government Employee (OMB Collection Number 1405-0060); Form DS-2005, Notification of Appointment of Honorary Consular Officer (OMB Collection Number 1405-0064); Form DS-2006, Notification of Change, Identification Card Request (OMB Collection Number 1405-0089); Form DS-2007, Notification of Dependents of Diplomatic, Consular, and Foreign Government Employees (OMB Collection Number 1405-0090); and Form DS-2008, Notification of Termination of Diplomatic, Consular, or Foreign Government Employment (OMB Collection Number 1405-0061).

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Extension of a Currently Approved Collection.

Originating Office: DS/OFM.

Title of Information Collection: Notification of Appointment of Foreign Diplomatic and Career Consular Officer.

Frequency: As often as necessary to add a new person to a foreign mission roster.

Form Number: DS-2003.

Respondents: Foreign government representatives.

Estimated Number of Respondents: 2,000.

Average Hours Per Response: 25 minutes.

Total Estimated Burden: 833.

Title of Information Collection: Notification of Appointment of Foreign Government Employee.

Frequency: As often as necessary to add a new person to a foreign mission roster.

Form Number: DS-2004.

Respondents: Foreign government representatives.

Estimated Number of Respondents: 5,000.

Average Hours Per Response: 25 minutes.

Total Estimated Burden: 2,083.

Title of Information Collection: Notification of Appointment of Honorary Consular Officer.

Frequency: As often as necessary to add a new person to a foreign mission roster.

Form Number: DS-2005.

Respondents: Foreign government representatives.

Estimated Number of Respondents: 200.

Average Hours Per Response: 20 minutes.

Total Estimated Burden: 83.

Title of Information Collection: Notification of Change, Identification Card Request.

Frequency: As often as necessary to add a new person to a foreign mission roster.

Form Number: DS-2006.

Respondents: Foreign government representatives.

Estimated Number of Respondents: 5,000.

Average Hours Per Response: 9 minutes.

Total Estimated Burden: 750.

Title of Information Collection: Notification of Dependents of Diplomatic, Consular, and Foreign Government Employees.

Frequency: As often as necessary to add a new person to a principle record.

Form Number: DS-2007.

Respondents: Foreign government representatives.

Estimated Number of Respondents: 7,000.

Average Hours Per Response: 10 minutes.

Total Estimated Burden: 1,167.

Title of Information Collection: Notification of Termination of Diplomatic, Consular, or Foreign Government Employment.

Frequency: As often as necessary to terminate foreign mission members.

Form Number: DS-2008.

Respondents: Foreign government representatives.

Estimated Number of Respondents: 7,200.

Average Hours Per Response: 10 minutes.

Total Estimated Burden: 1200.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Jacqueline Robinson, U.S. Department of State, Office of Foreign Missions, Washington, DC 20520-3302, who may be reached at 202-895-3528. Public comments and questions should be directed to the State Department Desk Officer, Office of Information and Regulatory Affairs, Office of Management and Budget (OMB), Washington, DC 20530, who may be reached on 202-395-3897.

Dated: April 24, 2003.
Jacqueline D. Robinson,
Director, Accreditations & Diplomatic Motor Vehicles, Office of Foreign Missions, Department of State.

[FR Doc. 03-11007 Filed 5-2-03; 8:45 am]

BILLING CODE 4710-43-P